DEPARTMENT OF COMMERCE

International Trade Administration

Tufts University, Notice of Decision on Application, for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 05-044. Applicant: Tufts University, Somerville, MA. Instrument: Low Temperature Scanning Tunneling Microscope. Manufacturer: Omicron Nanotechnology, Germany. Intended Use: See notice at 70 FR 61603, October 25, 2005.

Comments: None received. Decision: Approved. No instrument of equivalent scientific value to the foreign instrument, for such purposes as it is intended to be used, is being manufactured in the United States. Reasons: The foreign instrument provides: stable imaging at temperatures down to 4 Kelvin with low thermal drift rates (<1 angstrom per hour) and low rms vibration amplitudes (< 0.005 angstrom in a 300 Hz bandwidth). It also has the capability of depositing molecules on the sample in the microscope stage at temperatures down to 4 Kelvin and tip retraction and return to the same area after deposition of molecules. Advice received from: A university research laboratory for advanced microstructures and devices (comparable case). It knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. E6-235 Filed 1-11-06; 8:45 am]

BILLING CODE 3510-DS-S